DEPARTMENT OF AGRICULTURE

Rural Business-Cooperative Service

Notice of a Public Meeting on Administration of the Business and Industry Guaranteed Loan Program

AGENCY: Rural Business-Cooperative Service, USDA.

ACTION: Notice of public meeting.

SUMMARY: The Rural Business-Cooperative Service (RBS), an Agency within the USDA Rural Development Mission area, will hold a public meeting entitled “Business and Industry Guaranteed Loan Program National Lender Roundtable.”

DATES: The meeting will be held on February 2, 2010, in Dallas, Texas at the Hyatt Regency DFW Airport Hotel from 8 a.m. to 5 p.m. CST.

ADDRESSES: The public meeting will be held at the Hyatt Regency DFW Airport Hotel, 2334 N. International Parkway, DFW Airport, TX 75261; Telephone: 972-453-1234. A block of rooms has been reserved in the name of USDA/ARRA.

Instructions for Participation: Pre-registration is encouraged by e-mailing your intent to attend to Rick Bonnet at rick.bonnet@wdc.usda.gov. On-site registration will begin at 8:30 a.m. CST, and the workshop will begin at 9 a.m. and conclude by 4:15 p.m.

If you are unable to attend, please feel free to submit written comments and suggestions for program enhancements to Rick Bonnet by March 1, 2010.

FOR FURTHER INFORMATION CONTACT: Rick Bonnet, Rural Business-Cooperative Service, Room 6871, Stop 3221, 1400 Independence Avenue, SW., Washington, DC 20250-3221, Telephone: 202-720-1804. E-mail: rick.bonnet@wdc.usda.gov.

SUPPLEMENTARY INFORMATION: The meeting will be conducted by representatives of the Department of Agriculture. The purpose of this event is to provide an open forum to solicit feedback on the administration and delivery of the Business and Industry Guaranteed Loan Program stimulus assistance provided pursuant to Title 1 of Division A of the American Recovery and Reinvestment Act of 2009 (Recovery Act) (Pub. L. 111-5) commensurate with the objective(s) of improving lender participation in the Program and increasing Program funds utilization.

Dated: January 7, 2010.
Judith A. Canales,
Administrator, Rural Business-Cooperative Service.

[FR Doc. 2010-759 Filed 1-19-10; 8:45 am]

BILLING CODE 3410-XY-P